DEPARTMENT OF AGRICULTURE

Agricultural Research Service

Notice of Intent To Seek OMB Approval To Collect Information, Forms Pertaining to the Peer Review of ARS Research Projects

AGENCY: Agricultural Research Service (ARS), USDA.

ACTION: Notice and request for comments.

SUMMARY: The proposed information collection requirement described below will be submitted to the Office of Management and Budget (OMB) for review, as required by the Paperwork Reduction Act of 1995 and OMB implementing regulations. The Department is soliciting public comments on the subject proposal.

DATES: Written comments on this notice must be received by July 31, 2006.

ADDRESSES: Address all comments concerning this notice to: Michael S. Strauss, Peer Review Program Coordinator, Office of Scientific Quality Review; Agricultural Research Agency, USDA; 5601 Sunnyside Avenue, Beltsville, Maryland 20705; Phone: 301-504-3283; Fax: 301-504-1251.

FOR FURTHER INFORMATION CONTACT: Michael S. Strauss, 301-504-3282.

SUPPLEMENTARY INFORMATION: The Office of Scientific Quality Review will seek approval from OMB to update six existing forms that will allow the ARS to efficiently manage data associated with the peer review of agricultural research. All forms are transferred and received in an electronic storage format that does not include on-line access.

Abstract: The Office of Scientific Quality Review was established in September of 1999 as a result of the Agricultural Research, Extension, and Education Reform Act 1998 (“The Act”) (Pub. L. 105-185). The Act included mandates to perform scientific peer reviews of all research activities conducted by the USDA. The Office manages the ARS peer review system by centrally planning peer panel reviews for ARS research projects on a five-year cycle.

Each set of reviews is assigned a chairperson to govern the review process. The majority of the peer reviewers are non-ARS scientists. Peer review panels are convened to provide in-depth discussion and review of the research project plans. Each panel reviewer receives information on between 1 and 20 ARS research projects.

On average, 220 research projects are reviewed annually by an estimated 100 reviewers; whereby approximately 200 are reviewed by panel and approximately 20 are reviewed through an ad hoc process. The organization and management of this peer review system, particularly panel reviews, is highly dependent on the use of forms.

The Office of Scientific Quality Review will seek OMB approval of the following forms:

1. Confidentiality Agreement Form—USDA uses this form to document that a selected reviewer is responsible for keeping confidential any information learned during the subject peer review process. The Confidentiality Agreement is signed prior to the reviewer's involvement in the peer review process. This form requires an original signature.

2. Panelist Information Form—USDA uses this form to gather up-to-date background information about the reviewer. Reviewers often include sensitive information on this form. This form requires an original signature.

3. Peer Review of an ARS Research Project Form (Peer Review Form)—USDA uses this form to guide the reviewer's comments on the subject project. The form contains the reviewing criteria and space for the reviewer's narrative comments and evaluation.

4. Recommendations for ARS Research Project Form—(Recommendations Form, formerly known as “Critique Form”). USDA uses this form to guide the panel's evaluation and critique of the review process. The form contains recommendations for the subject research project.

5. Panel Expense Report Form (Expense Report)—USDA uses this form to document a panel reviewer's expense incurred traveling to and attending a peer review meeting. The Expense Report includes lodging, meals, and transportation expenses. When completed, the form contains sensitive information.

Panel Invoice Form (Invoice)—USDA uses this form to document the transfer of an honorarium to a peer reviewer. Reviewers receive honoraria as compensation for serving as peer review panelists. This form requires an original signature.

(1) USDA's collection of information on the Confidentiality Agreement Form is needed to document that a selected reviewer is responsible for keeping confidential any information learned during the subject peer review process. The Confidentiality Agreement would be signed prior to the reviewer's involvement in the peer review process.

(2) USDA's collection of information on the Panelist Information Form is needed to gather up-to-date background information about the reviewer. It contains sensitive information.

(3) USDA's collection of information on the Peer Review Form is needed to guide the reviewer's comments on the subject project. It contains the reviewing criteria and space to insert comments.

(4) USDA's collection of information on the Recommendations Form is needed to guide the panel's critique of the review process. It contains recommendations for the subject research project.

(5) USDA's collection of information on the Expense Report Form is needed to document a panel reviewer's expenses incurred by attending a peer review meeting. The Expense Report includes lodging, meals, and transportation expenses. It includes sensitive information.

(6) USDA's collection of information on the Invoice is needed to document the transfer of a stipend to the peer reviewer. The stipend is given to reviewers as appreciation for their time spent on the panel review process.

Estimate of Burden: The burden associated with this approval process is the minimum required to achieve program objectives. The information collection frequency is the minimum consistent with program objectives. The following estimates of time required to complete the forms are based on OSQR's experience in working with reviewers and accepting their input into our procedures.

1. Confidentiality Agreement Form: This form takes 10-15 minutes to complete. It only requires a signature and date, but the reviewer must read the terms of the agreement.

2. Panelist Informational Form: This form takes 20-30 minutes to complete. It resembles a typical request for personal information; many reviewers provide the same data as grant reviewers in other peer review programs.

3. Peer Review of an ARS Research Project Form (Peer Review Form) This form takes 4-6 hours to complete. Because this is a review, the page length significantly varies. Reviewers are free to write as much as they wish.

4. Recommendations for ARS Research Project Form (Recommendations Form, formerly known as “Critique Form”).

This form takes 1 hour to complete. Because this is a review, the page length significantly varies. Reviewers are free to write as much as they wish.

5. Panel Expense Report Form (Expense Report) This form takes 10-15 minutes to complete.

6. Panel Invoice Form (Invoice): This form takes 5-10 minutes to complete. This form has the reviewer's personal info pre-filled and the reviewer only verifies it's accuracy and signs.

Respondents and Estimated Number of Respondents: Scientific experts, currently working in the same discipline as the research projects under review, are selected to review research projects. These experts are notable peers within and external to the ARS. Annually, about 100 peer reviewers complete these forms. Ad hoc reviewers are not, typically, paid a stipend, and do not travel to meet with other reviewers; and thus they do not complete Expense Report and Invoice Forms. On occasion, ad hoc reviewers may participate in a Web-based panel and be paid a nominal honorarium, thus necessitating completion of and Invoice Form. Ad hoc reviewers, retained for special situations, will make up about a 25 percent of all the reviewers retained annually.

Frequency of Response:

Form | Number of respondents | Annual frequency
Confidentiality Agreement | 100 | 1 per respondent.
Peer Review Forms (Required for all reviewers and they have 1-4 review assignments on average) | 100 | ~4 per respondent (Total of 400).
Expense Report, Invoice, & Panelist Information Forms | 75 | 1 per respondent for each form (Total of 225).
Recommendations Form (Required on panel reviews, whereby comments from the peer review form are combined into one file) | 75 | ~2.5 per respondent (Total of 200).

Estimated Total Annual Burden on Respondents
Form (time required to complete) | Number completed annually | Total burden
Confidentiality Agreement (12 min.) | 100 | 1200 min.
Peer Review Forms (~5 hrs.) | 400 | 2000 hrs.
Panelist Information Forms (25 min.) | 225 | 5625 min.
Recommendations Form (1 hr.) | 200 | 200 hrs.
Invoice (7 min.) | 225 | 1575 min.
Expense Report (12 min.) | 225 | 2700 min.

Authority: The Paperwork Reduction Act of 1995, 44 U.S.C. chapter 35.

Comments: The Notice is soliciting comments from members of the public and affected agencies concerning the proposed collection of information to: (1) Evaluate whether the proposed collection is necessary for the proper performance of ARS functions, including whether the information will have practical utility; (2) Evaluate the accuracy of the estimated burden from proposed collection of information; (3) Enhance the quality, utility, and clarity of the information to be collected; and (4) Minimize the burden of the collection of information on those who are to respond, including the use of appropriate automated collection techniques or other forms of information technology, e.g., permitting electronic submission of responses. All responses to this notice will be summarized and included in the request for OMB approval. All comments will become a matter of public record.

Dated: April 24, 2006.
Antoinette Betschart,
Associate Administrator for Operations and Management, Agricultural Research Service, USDA.

[FR Doc. 06-5004 Filed 5-26-06; 11:38 am]

BILLING CODE 3410-03-P